DEPARTMENT OF LABOR

Employment and Training Administration

[TA-W-53,135]

Castle Rubber, LLC; East Butler, PA; Notice of Revised Determination on Reconsideration

By letter postmarked December 11, 2003, company officials and United Steelworkers of America, Local 116L requested administrative reconsideration regarding the Department's Negative Determination Regarding Eligibility to Apply for Worker Adjustment Assistance, applicable to the workers of the subject firm.

The initial investigation resulted in a negative determination issued on November 5, 2003, based on the finding that imports of molded and built-up rubber products did not contribute importantly to worker separations at the subject plant and no shift of production to a foreign source occurred. The denial notice was published in the Federal Register on November 28, 2003 (68 FR 66878).

To support the request for reconsideration, the company official supplied additional major declining customers to supplement those that were surveyed during the initial investigation. The survey revealed that significant number of major declining customers contacted during the reconsideration, increased their imports of molded and built-up rubber products in the relevant period. The imports accounted for a meaningful portion of the subject plant's lost sales and production.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Castle Rubber, LLC, East Butler, Pennsylvania, contributed importantly to the declines in sales or production and to the total or partial separation of workers at the subject firm. In accordance with the provisions of the Act, I make the following certification:

All workers of Castle Rubber, LLC, East Butler, Pennsylvania, who became totally or partially separated from employment on or after October 2, 2002, through two years from the date of this certification, are eligible to apply for adjustment assistance under section 223 of the Trade Act of 1974, and are eligible to apply for alternative trade adjustment assistance under section 246 of the Trade Act of 1974.

Signed in Washington, DC, this 5th day of February 2004.
Elliott S. Kushner,
Certifying Officer, Division of Trade Adjustment Assistance.

[FR Doc. 04-3915 Filed 2-23-04; 8:45 am]

BILLING CODE 4510-30-P